DEPARTMENT OF THE INTERIOR

National Park Service

Grand Teton Transportation Plan, Final Environmental Impact Statement, Grand Teton National Park, WY

AGENCY: National Park Service, Department of the Interior.

ACTION: Notice of availability of the final environmental impact statement for the Grand Teton Transportation Plan, Grand Teton National Park.

SUMMARY: Pursuant to National Environmental Policy Act of 1969, 42 U.S.C. 4332(2)(C), the National Park Service announces the availability of a Final Environmental Impact Statement for the Grand Teton Transportation Plan, Grand Teton National Park, Wyoming.

DATES: The National Park Service will execute a Record of Decision (ROD) no sooner than 30 days following publication by the Environmental Protection Agency of the Notice of Availability of the Final Environmental Impact Statement.

ADDRESSES: Information will be available for public inspection online at http://parkplanning.nps.gov, in the office of the Superintendent, Mary Gibson Scott, Grand Teton National Park, PO Drawer 170, Moose, Wyoming 83012-0170, (370) 739-3410, and at the Teton County Public Library, Jackson, Wyoming.

FOR FURTHER INFORMATION CONTACT: Mary Gibson Scott, Superintendent, Grand Teton National Park, PO Drawer 170, Moose, Wyoming 83012-0170, (370) 739-3410.

Dated: July 11, 2006.
Anthony J. Schetzsle,
Acting Director, Intermountain Region, National Park Service.

[FR Doc. E6-14694 Filed 9-14-06; 8:45 am]

BILLING CODE 4312-CX-P